DEPARTMENT OF COMMERCE

National Oceanic and Atmospheric Administration

RIN 0648-XD494

Advisory Committee and Species Working Group Technical Advisor Appointment

AGENCY: National Marine Fisheries Service (NMFS), National Oceanic and Atmospheric Administration (NOAA), Commerce.

ACTION: Notice; Nominations.

SUMMARY: NMFS is soliciting nominations to the Advisory Committee to the U.S. Section to the International Commission for the Conservation of Atlantic Tunas (ICCAT) as established by the Atlantic Tunas Convention Act (ATCA). NMFS is also soliciting nominations for technical advisors to the Advisory Committee's species working groups.

DATES: Nominations must be received by October 14, 2014.

ADDRESSES: Nominations should be sent via email (Rachel.O'Malley@noaa.gov). In the alternative, nominations may be sent via mail to Rachel O'Malley at NMFS, Office of International Affairs, Room 10653, 1315 East-West Highway, Silver Spring, MD 20910.

FOR FURTHER INFORMATION CONTACT: Rachel O'Malley, Office of International Affairs, 301-427-8373.

SUPPLEMENTARY INFORMATION: Section 971b of ATCA (16 U.S.C. 971 et seq.) requires that an advisory committee be established that shall be comprised of: (1) Not less than five nor more than 20 individuals appointed by the U.S. Commissioners to ICCAT who shall select such individuals from the various groups concerned with the fisheries covered by the ICCAT Convention; and (2) the chairs (or their designees) of the New England, Mid-Atlantic, South Atlantic, Caribbean, and Gulf Fishery Management Councils. Each member of the Advisory Committee appointed under paragraph (1) shall serve for a term of two years and be eligible for reappointment. All members of the Advisory Committee are appointed in their individual professional capacity and undergo a background screening. Any individual appointed to the Committee who is unable to attend all or part of an Advisory Committee meeting may not appoint another person to attend such meetings as his or her proxy. Members of the Advisory Committee shall receive no compensation for their services. The Secretary of Commerce and the Secretary of State may pay the necessary travel expenses of members of the Advisory Committee. There are currently 20 appointed Advisory Committee members. The terms of these members expire on December 31, 2014.

Section 971b(1) of ATCA specifies that the U.S. Commissioners may establish species working groups for the purpose of providing advice and recommendations to the U.S. Commissioners and to the Advisory Committee on matters relating to the conservation and management of any highly migratory species covered by the ICCAT Convention. Any species working group shall consist of no more than seven members of the Advisory Committee and no more than four technical advisors, as considered necessary by the Commissioners. Currently, there are five species working groups advising the Committee and the U.S. Commissioners: A Bluefin Tuna Working Group, a Swordfish Working Group, a Sharks Working Group, a Billfish Working Group, and a Bigeye Tuna, Albacore, Yellowfin, and Skipjack (BAYS) Tunas Working Group. Technical Advisors to the species working groups serve at the request of the Commissioners; therefore the Commissioners can choose to alter these appointments at any time. As with Committee Members, Technical Advisors may not be represented by a proxy during any official meetings of the Advisory Committee.

Nominations to the Advisory Committee or to a species working group should include a letter of interest and a resume or curriculum vitae. Self-nominations are acceptable. Letters of recommendation are useful but not required. When making a nomination, please specify which appointment (Advisory Committee member or technical advisor to a species working group) is being sought. Nominees may also indicate which of the species working groups is preferred, although placement on the requested group is not guaranteed.

Dated: September 8, 2014.
Jean-Pierre Plé,
Acting Director, Office of International Affairs, National Marine Fisheries Service.

[FR Doc. 2014-21835 Filed 9-11-14; 8:45 am]

BILLING CODE 3510-22-P